DEPARTMENT OF TRANSPORTATION

Federal Aviation Administration

14 CFR Part 39

[Docket No. 2002-SW-22-AD; Amendment 39-12835; AD 2002-08-54]

RIN 2120-AA64

Airworthiness Directives; Bell Helicopter Textron Canada Model 222, 222B, 222U, and 230 Helicopters

Correction

In rule document 02-19486 beginning on page 50793 in the issue of Tuesday, August 6, 2002 make the following correction:

§39.13 [Corrected]

On page 50794, in §39.13, in the table, under the “ Model” heading, in the third entry “(3)” should read “(3) 230 ”.

[FR Doc. C2-19486 Filed 8-20-02; 8:45 am]

BILLING CODE 1505-01-D